DEPARTMENT OF HEALTH AND HUMAN SERVICES

Centers for Medicare & Medicaid Services

[CMS-2395-N]

RIN 0938Z

Medicaid Program; State Allotments for Payment of Medicare Part B Premiums for Qualifying Individuals (QIs): Federal Fiscal Years 2013 and 2014

AGENCY: Centers for Medicare & Medicaid Services (CMS), HHS.

ACTION: Notice.

SUMMARY: This notice sets forth the states' final allotments available to pay the Medicare Part B premiums for Qualifying Individuals (QIs) for the federal fiscal year (FY) 2013 and the preliminary QI allotments for FY 2014. The amounts of these QI allotments were determined in accordance with the methodology set forth in regulations and reflect funding for the QI program made available under recent legislation.

DATES: The final QI allotments for payment of Medicare Part B premiums for FY 2013 are effective October 1, 2012. The preliminary QI allotments for FY 2014 are effective October 1, 2013.

FOR FURTHER INFORMATION CONTACT: Diana Kuhn, (410) 786-1914 or Toni Cincibus at (410) 786-2997.

SUPPLEMENTARY INFORMATION:

I. Background

A. QI Allotments for FY 2013

Section 3101 of the Middle Class Tax Relief and Job Creation Act of 2012 (Pub. L. 112-96, enacted on February 22, 2012) (MCTRJCA) extended the authority and funding for the QI program by providing $280 million, available for the period October 1, 2012 through December 31, 2012, the first quarter of FY 2013. Section 621 of the American Taxpayer Relief Act of 2012 (Pub. L. 112-240, enacted on January 2, 2013) (ATRA), extended the authority for the QI program for all of FY 2013 and provided $485 million in additional funding for the program for the period January 1, 2013 through September 30, 2013. Therefore the total funding available for the QI program for FY 2013 is $765 million ($280 million plus $485 million).

B. QI Allotments for FY 2014 and Thereafter

As amended by section 621 of the American Taxpayer Relief Act of 2012 (ATRA, Pub. L. 112-240, enacted on January 2, 2013), section 1933(g)(2) of the Social Security Act provided $300 million in funding for the period October 1, 2013 through December 31, 2013, the first quarter of FY 2014. Section 1201 of Division B of the legislation “Pathway for SGR Reform Act of 2013” (Pub. L. 113-67 enacted on December 26, 2013) provided an additional $200 million and authority for the QI program for the period January 1, 2014 through March 31, 2014 (second quarter of FY 2014). In addition, section 201 of the Protecting Access to Medicare Act of 2014 (PAMA) (Pub. L. 113-93 enacted on April 1, 2014) revised the $200 to $485 million and extended the period for which such funds were available to the end of September 2014. Therefore, a total of $785 million is now available for all of FY 2014 ($300 million for the first quarter of FY 2014, and $485 million for the second through fourth quarters of FY 2014). Finally, section 201 of PAMA further extended the authority and funding for the QI program for FY 2015 as follows: $300 million for the period October 1, 2014 through December 31, 2014 (first quarter of FY 2015); and, $250 million for the period January 1, 2015 through March 31, 2015 (second quarter FY 2015). Therefore, a total of $550 million is available for the QI program for FY 2015.

C. Methodology for Calculating the Fiscal Year QI Allotments

The amounts of the states' final FY 2013 and preliminary FY 2014 QI allotments, contained in this notice, were determined in accordance with the methodology set forth in existing regulations at 42 CFR 433.10(c)(5) and reflect funding for the QI program made available under the legislation discussed above.

II. Tables

The final QI allotments for FY 2013 and the preliminary QI allotments for FY 2014 are shown by state in Table 1 and Table 2, respectively:

Table 1—Final Qualifying Individuals Allotments for October 1, 2012 through September 30, 2013.

Table 2—Preliminary Qualifying Individuals Allotments for October 1, 2013 through September 30, 2014.

Table 1—Final Qualifying Individuals Allotments for October 1, 2012 Through September 30, 2013
State | Initial QI allotments for FY 2013: Number of individuals ³ (000s) | Initial QI allotments for FY 2013: Percentage of total Col B/ Tot. Col B | Initial QI allotments for FY 2013: Initial QI allotment Col C × $765,000,000 | FY 2013 estimated QI expenditures ¹ | Need (difference) If E > D, E − D | Percentage of total need states F/(tot. of F) | Reduction pool for non-need states If D >= E, D − E | Percentage of total non-need states H/ (tot. of H) | Reduction adj. for non-need states Col. I × $105,466,335 | Increase adj. for need states Col. G × $105,466,335 | Final FY 2013 QI allotment ²
A | B | C | D | E | F | G | H | I | J | K | L
Alabama | 38 | 2.64 | $20,159,501 | $22,544,081 | $2,384,580 | 2.2610 | Need | Need | Need | $2,384,580 | $22,544,081
Alaska | 2 | 0.14 | 1,061,026 | 326,300 | NA | NA | $734,726 | 0.4320 | $455,613 | NA | 605,414
Arizona | 21 | 1.46 | 11,140,777 | 19,563,390 | 8,422,614 | 7.9861 | Need | Need | Need | 8,422,614 | 19,563,390
Arkansas | 27 | 1.87 | 14,323,856 | 13,956,348 | NA | NA | 367,508 | 0.2161 | 227,896 | NA | 14,095,960
California | 107 | 7.42 | 56,764,910 | 28,189,619 | NA | NA | 28,575,291 | 16.8015 | 17,719,883 | NA | 39,045,026
Colorado | 16 | 1.11 | 8,488,211 | 6,005,621 | NA | NA | 2,482,589 | 1.4597 | 1,539,484 | NA | 6,948,727
Connecticut | 15 | 1.04 | 7,957,698 | 3,902,339 | NA | NA | 4,055,359 | 2.3844 | 2,514,777 | NA | 5,442,921
Delaware | 4 | 0.28 | 2,122,053 | 3,211,361 | 1,089,308 | 1.0328 | Need | Need | Need | 1,089,308 | 3,211,361
District of Columbia | 2 | 0.14 | 1,061,026 | 0 | NA | NA | 1,061,026 | 0.6239 | 657,955 | NA | 403,071
Florida | 96 | 6.66 | 50,929,265 | 72,316,568 | 21,387,303 | 20.2788 | Need | Need | Need | 21,387,303 | 72,316,568
Georgia | 45 | 3.12 | 23,873,093 | 34,507,397 | 10,634,304 | 10.0831 | Need | Need | Need | 10,634,304 | 34,507,397
Hawaii | 6 | 0.42 | 3,183,079 | 1,409,689 | NA | NA | 1,773,390 | 1.0427 | 1,099,701 | NA | 2,083,378
Idaho | 7 | 0.49 | 3,713,592 | 2,677,626 | NA | NA | 1,035,967 | 0.6091 | 642,415 | NA | 3,071,177
Illinois | 68 | 4.72 | 36,074,896 | 24,744,637 | NA | NA | 11,330,259 | 6.6619 | 7,026,031 | NA | 29,048,864
Indiana | 43 | 2.98 | 22,812,067 | 5,829,210 | NA | NA | 16,982,857 | 9.9854 | 10,531,275 | NA | 12,280,791
Iowa | 16 | 1.11 | 8,488,211 | 4,584,319 | NA | NA | 3,903,892 | 2.2954 | 2,420,851 | NA | 6,067,360
Kansas | 18 | 1.25 | 9,549,237 | 5,023,657 | NA | NA | 4,525,580 | 2.6609 | 2,806,367 | NA | 6,742,870
Kentucky | 34 | 2.36 | 18,037,448 | 15,065,051 | NA | NA | 2,972,397 | 1.7477 | 1,843,219 | NA | 16,194,229
Louisiana | 29 | 2.01 | 15,384,882 | 20,831,932 | 5,447,049 | 5.1647 | Need | Need | Need | 5,447,049 | 20,831,932
Maine | 7 | 0.49 | 3,713,592 | 6,075,634 | 2,362,042 | 2.2396 | Need | Need | Need | 2,362,042 | 6,075,634
Maryland | 24 | 1.66 | 12,732,316 | 8,959,072 | NA | NA | 3,773,244 | 2.2186 | 2,339,834 | NA | 10,392,482
Massachusetts | 28 | 1.94 | 14,854,369 | 9,694,545 | NA | NA | 5,159,824 | 3.0338 | 3,199,669 | NA | 11,654,700
Michigan | 38 | 2.64 | 20,159,501 | 14,816,534 | NA | NA | 5,342,966 | 3.1415 | 3,313,238 | NA | 16,846,263
Minnesota | 22 | 1.53 | 11,671,290 | 6,389,653 | NA | NA | 5,281,637 | 3.1055 | 3,275,207 | NA | 8,396,083
Mississippi | 18 | 1.25 | 9,549,237 | 15,212,658 | 5,663,421 | 5.3699 | Need | Need | Need | 5,663,421 | 15,212,658
Missouri | 39 | 2.70 | 20,690,014 | 4,395,160 | NA | NA | 16,294,854 | 9.5809 | 10,104,636 | NA | 10,585,377
Montana | 6 | 0.42 | 3,183,079 | 1,543,785 | NA | NA | 1,639,294 | 0.9639 | 1,016,546 | NA | 2,166,533
Nebraska | 6 | 0.42 | 3,183,079 | 2,283,431 | NA | NA | 899,648 | 0.5290 | 557,882 | NA | 2,625,197
Nevada | 10 | 0.69 | 5,305,132 | 5,391,707 | 86,575 | 0.0821 | Need | Need | Need | 86,575 | 5,391,707
New Hampshire | 6 | 0.42 | 3,183,079 | 2,269,086 | NA | NA | 913,993 | 0.5374 | 566,778 | NA | 2,616,301
New Jersey | 40 | 2.77 | 21,220,527 | 7,810,549 | NA | NA | 13,409,979 | 7.8847 | 8,315,690 | NA | 12,904,836
New Mexico | 9 | 0.62 | 4,774,619 | 4,117,952 | NA | NA | 656,667 | 0.3861 | 407,207 | NA | 4,367,412
New York | 85 | 5.89 | 45,093,620 | 46,198,147 | 1,104,527 | 1.0473 | Need | Need | Need | 1,104,527 | 46,198,147
North Carolina | 38 | 2.64 | 20,159,501 | 29,670,994 | 9,511,493 | 9.0185 | Need | Need | Need | 9,511,493 | 29,670,994
North Dakota | 3 | 0.21 | 1,591,540 | 670,202 | NA | NA | 921,338 | 0.5417 | 571,333 | NA | 1,020,207
Ohio | 54 | 3.74 | 28,647,712 | 26,381,913 | NA | NA | 2,265,799 | 1.3322 | 1,405,049 | NA | 27,242,662
Oklahoma | 27 | 1.87 | 14,323,856 | 10,320,039 | NA | NA | 4,003,816 | 2.3541 | 2,482,815 | NA | 11,841,041
Oregon | 17 | 1.18 | 9,018,724 | 14,297,554 | 5,278,830 | 5.0052 | Need | Need | Need | 5,278,830 | 14,297,554
Pennsylvania | 78 | 5.41 | 41,380,028 | 33,265,180 | NA | NA | 8,114,848 | 4.7713 | 5,032,115 | NA | 36,347,913
Rhode Island | 6 | 0.42 | 3,183,079 | 2,439,790 | NA | NA | 743,289 | 0.4370 | 460,923 | NA | 2,722,156
South Carolina | 33 | 2.29 | 17,506,935 | 14,903,998 | NA | NA | 2,602,937 | 1.5305 | 1,614,113 | NA | 15,892,822
South Dakota | 4 | 0.28 | 2,122,053 | 1,623,719 | NA | NA | 498,334 | 0.2930 | 309,023 | NA | 1,813,030
Tennessee | 48 | 3.33 | 25,464,632 | 31,271,663 | 5,807,030 | 5.5061 | Need | Need | Need | 5,807,030 | 31,271,663
Texas | 106 | 7.35 | 56,234,397 | 78,081,412 | 21,847,015 | 20.7147 | Need | Need | Need | 21,847,015 | 78,081,412
Utah | 6 | 0.42 | 3,183,079 | 2,018,266 | NA | NA | 1,164,813 | 0.6849 | 722,315 | NA | 2,460,765
Vermont | 2 | 0.14 | 1,061,026 | 3,574,197 | 2,513,171 | 2.3829 | Need | Need | Need | 2,513,171 | 3,574,197
Virginia | 23 | 1.60 | 12,201,803 | 14,128,876 | 1,927,073 | 1.8272 | Need | Need | Need | 1,927,073 | 14,128,876
Washington | 23 | 1.60 | 12,201,803 | 5,963,337 | NA | NA | 6,238,466 | 3.6680 | 3,868,548 | NA | 8,333,255
West Virginia | 17 | 1.18 | 9,018,724 | 6,218,910 | NA | NA | 2,799,814 | 1.6462 | 1,736,199 | NA | 7,282,525
Wisconsin | 22 | 1.53 | 11,671,290 | 4,839,536 | NA | NA | 6,831,754 | 4.0169 | 4,236,453 | NA | 7,434,837
Wyoming | 3 | 0.21 | 1,591,540 | 873,450 | NA | NA | 718,090 | 0.4222 | 445,296 | NA | 1,146,244
Total | 1,442 | 100.00 | 765,000,000 | 700,390,091 | 105,466,335 | 100.0000 | 170,076,244 | 100.0000 | 105,466,335 | 105,466,335 | 765,000,000
Footnotes:
¹ FY 2013 Estimates from July 2013 CMS Survey of States; Estimates Are For Months October 2012 Through September 2013.
² For Need States, Final FY 2013 QI Allotment is equal to Initial QI Allotment in Column D increased by amount in Column K; For Non-Need States, Final FY 2013 QI Allotment is equal to Initial QI Allotment in Column D reduced by amount in Column J.
³ Three-year average (2009-2011) of number (000) of Medicare beneficiaries in State who are not enrolled in Medicaid but whose incomes are at least 120% but less than 135% of Federal poverty level.
Source: Census Bureau Annual Social and Economic Supplement (ASEC) to the 2012 Current Population Survey (CPS).

Table 2—Preliminary Qualifying Individuals Allotments for October 1, 2013 Through September 30, 2014
State | Initial QI allotments for FY 2014: Number of individuals ³ (000s) | Initial QI allotments for FY 2014: Percentage of total Col B/tot. Col B | Initial QI allotments for FY 2014: Initial QI allotment Col C × $785,000,000 | FY 2014 estimated QI expenditures ¹ | Need (difference) if E > D, E−D | Percentage of total need states F/(tot. of F) | Reduction pool for non-need states if D >= E, D − E | Percent of total non-need states H/(tot. of H) | Reduction adj. for non-need states Col. I × $116,087,180 | Increase adj. for need states Col. G × $116,087,180 | Preliminary FY 2014 QI allotment ²
A | B | C | D | E | F | G | H | I | J | K | L
Alabama | 33 | 2.13 | $16,756,145 | $24,304,910 | $7,548,766 | 6.5027 | Need | Need | Need | $7,548,766 | $24,304,910
Alaska | 2 | 0.13 | 1,015,524 | 374,073 | NA | NA | $641,451 | 0.4288 | $497,751 | NA | 517,772
Arizona | 29 | 1.88 | 14,725,097 | 21,719,024 | 6,993,927 | 6.0247 | Need | Need | Need | 6,993,927 | 21,719,024
Arkansas | 25 | 1.62 | 12,694,049 | 14,283,289 | 1,589,240 | 1.3690 | Need | Need | Need | 1,589,240 | 14,283,289
California | 130 | 8.41 | 66,009,056 | 29,497,236 | NA | NA | 36,511,819 | 24.4061 | 28,332,367 | NA | 37,676,689
Colorado | 12 | 0.78 | 6,093,144 | 6,744,021 | 650,877 | 0.5607 | Need | Need | Need | 650,877 | 6,744,021
Connecticut | 15 | 0.97 | 7,616,429 | 5,030,002 | NA | NA | 2,586,428 | 1.7289 | 2,007,011 | NA | 5,609,418
Delaware | 5 | 0.32 | 2,538,810 | 3,208,262 | 669,452 | 0.5767 | Need | Need | Need | 669,452 | 3,208,262
District of Columbia | 2 | 0.13 | 1,015,524 | 0 | NA | NA | 1,015,524 | 0.6788 | 788,024 | NA | 227,500
Florida | 133 | 8.60 | 67,532,342 | 78,905,990 | 11,373,648 | 9.7975 | Need | Need | Need | 11,373,648 | 78,905,990
Georgia | 46 | 2.98 | 23,357,050 | 37,475,498 | 14,118,447 | 12.1619 | Need | Need | Need | 14,118,447 | 37,475,499
Hawaii | 6 | 0.39 | 3,046,572 | 1,472,570 | NA | NA | 1,574,002 | 1.0521 | 1,221,391 | NA | 1,825,181
Idaho | 8 | 0.52 | 4,062,096 | 2,684,609 | NA | NA | 1,377,487 | 0.9208 | 1,068,899 | NA | 2,993,196
Illinois | 63 | 4.08 | 31,989,004 | 28,168,168 | NA | NA | 3,820,836 | 2.5540 | 2,964,885 | NA | 29,024,119
Indiana | 41 | 2.65 | 20,818,241 | 6,077,393 | NA | NA | 14,740,848 | 9.8534 | 11,438,573 | NA | 9,379,668
Iowa | 17 | 1.10 | 8,631,953 | 4,924,019 | NA | NA | 3,707,935 | 2.4785 | 2,877,276 | NA | 5,754,678
Kansas | 18 | 1.16 | 9,139,715 | 5,698,955 | NA | NA | 3,440,760 | 2.3000 | 2,669,954 | NA | 6,469,761
Kentucky | 35 | 2.26 | 17,771,669 | 17,488,089 | NA | NA | 283,580 | 0.1896 | 220,052 | NA | 17,551,617
Louisiana | 29 | 1.88 | 14,725,097 | 22,748,614 | 8,023,517 | 6.9116 | Need | Need | Need | 8,023,517 | 22,748,614
Maine | 7 | 0.45 | 3,554,334 | 7,632,104 | 4,077,771 | 3.5127 | Need | Need | Need | 4,077,771 | 7,632,104
Maryland | 22 | 1.42 | 11,170,763 | 10,821,904 | NA | NA | 348,860 | 0.2332 | 270,707 | NA | 10,900,056
Massachusetts | 27 | 1.75 | 13,709,573 | 10,070,400 | NA | NA | 3,639,173 | 2.4326 | 2,823,918 | NA | 10,885,655
Michigan | 37 | 2.39 | 18,787,193 | 18,446,036 | NA | NA | 341,157 | 0.2280 | 264,730 | NA | 18,522,462
Minnesota | 18 | 1.16 | 9,139,715 | 6,901,960 | NA | NA | 2,237,755 | 1.4958 | 1,736,449 | NA | 7,403,266
Mississippi | 20 | 1.29 | 10,155,239 | 16,214,118 | 6,058,879 | 5.2192 | Need | Need | Need | 6,058,879 | 16,214,118
Missouri | 44 | 2.85 | 22,341,527 | 6,154,273 | NA | NA | 16,187,253 | 10.8203 | 12,560,952 | NA | 9,780,575
Montana | 6 | 0.39 | 3,046,572 | 1,617,663 | NA | NA | 1,428,909 | 0.9551 | 1,108,802 | NA | 1,937,770
Nebraska | 7 | 0.45 | 3,554,334 | 2,347,662 | NA | NA | 1,206,672 | 0.8066 | 936,351 | NA | 2,617,983
Nevada | 7 | 0.45 | 3,554,334 | 6,220,570 | 2,666,236 | 2.2968 | Need | Need | Need | 2,666,236 | 6,220,570
New Hampshire | 6 | 0.39 | 3,046,572 | 2,755,828 | NA | NA | 290,744 | 0.1943 | 225,611 | NA | 2,820,961
New Jersey | 45 | 2.91 | 22,849,288 | 8,686,979 | NA | NA | 14,162,310 | 9.4667 | 10,989,640 | NA | 11,859,648
New Mexico | 9 | 0.58 | 4,569,858 | 4,491,904 | NA | NA | 77,953 | 0.0521 | 60,490 | NA | 4,509,368
New York | 102 | 6.60 | 51,791,721 | 47,248,495 | NA | NA | 4,543,226 | 3.0369 | 3,525,443 | NA | 48,266,278
North Carolina | 48 | 3.10 | 24,372,574 | 31,199,358 | 6,826,784 | 5.8807 | Need | Need | Need | 6,826,784 | 31,199,358
North Dakota | 4 | 0.26 | 2,031,048 | 708,704 | NA | NA | 1,322,343 | 0.8839 | 1,026,109 | NA | 1,004,938
Ohio | 59 | 3.82 | 29,957,956 | 27,260,048 | NA | NA | 2,697,908 | 1.8034 | 2,093,517 | NA | 27,864,439
Oklahoma | 23 | 1.49 | 11,678,525 | 11,187,585 | NA | NA | 490,940 | 0.3282 | 380,959 | NA | 11,297,566
Oregon | 16 | 1.03 | 8,124,191 | 16,228,030 | 8,103,839 | 6.9808 | Need | Need | Need | 8,103,839 | 16,228,030
Pennsylvania | 83 | 5.37 | 42,144,243 | 33,836,544 | NA | NA | 8,307,699 | 5.5532 | 6,446,591 | NA | 35,697,652
Rhode Island | 5 | 0.32 | 2,538,810 | 2,519,698 | NA | NA | 19,112 | 0.0128 | 14,830 | NA | 2,523,979
South Carolina | 33 | 2.13 | 16,756,145 | 15,105,600 | NA | NA | 1,650,545 | 1.1033 | 1,280,786 | NA | 15,475,358
South Dakota | 3 | 0.19 | 1,523,286 | 2,110,798 | 587,512 | 0.5061 | Need | Need | Need | 587,512 | 2,110,798
Tennessee | 43 | 2.78 | 21,833,765 | 32,496,447 | 10,662,682 | 9.1851 | Need | Need | Need | 10,662,682 | 32,496,447
Texas | 108 | 6.99 | 54,838,292 | 78,683,812 | 23,845,519 | 20.5410 | Need | Need | Need | 23,845,519 | 78,683,813
Utah | 7 | 0.45 | 3,554,334 | 2,394,138 | NA | NA | 1,160,196 | 0.7755 | 900,286 | NA | 2,654,047
Vermont | 3 | 0.19 | 1,523,286 | 3,813,371 | 2,290,085 | 1.9727 | Need | Need | Need | 2,290,085 | 3,813,371
Virginia | 33 | 2.13 | 16,756,145 | 14,627,256 | NA | NA | 2,128,889 | 1.4230 | 1,651,971 | NA | 15,104,174
Washington | 26 | 1.68 | 13,201,811 | 6,660,311 | NA | NA | 6,541,500 | 4.3726 | 5,076,060 | NA | 8,125,751
West Virginia | 20 | 1.29 | 10,155,239 | 6,415,789 | NA | NA | 3,739,450 | 2.4996 | 2,901,731 | NA | 7,253,508
Wisconsin | 22 | 1.42 | 11,170,763 | 4,908,586 | NA | NA | 6,262,178 | 4.1859 | 4,859,312 | NA | 6,311,452
Wyoming | 4 | 0.26 | 2,031,048 | 915,357 | NA | NA | 1,115,690 | 0.7458 | 865,751 | NA | 1,165,297
Total | 1,546 | 100.00 | 785,000,000 | 751,486,048 | 116,087,180 | 100.0000 | 149,601,132 | 100.0000 | 116,087,180 | 116,087,180 | 785,000,000
Footnotes:
¹ FY 2014 Estimates in Column E are from July 2013 CMS Survey of States; Estimates are for months October 2013 through September 2014.
² For Need States, Preliminary FY 2014 QI Allotment is equal to Initial QI Allotment in Column D increased by amount in Column K; For Non-Need States, Preliminary FY 2014 QI Allotment is equal to Initial QI Allotment in Column D reduced by amount in Column J.
³ Three-year average (2010-2012) of number (000) of Medicare beneficiaries in State who are not enrolled in Medicaid but whose incomes are at least 120% but less than 135% of Federal poverty level.
Source: Census Bureau Annual Social and Economic Supplement (ASEC) to the 2012 Current Population Survey (CPS).

The following describes the information contained in the columns of Table 1 and Table 2:

Column A—State. Column A shows the name of each state. Columns B through D show the determination of an Initial QI Allotment for FY 2013 (Table 1) or FY 2014 (Table 2) for each state, based only on the indicated Census Bureau data.

Column B—Number of Individuals. Column B contains the estimated average number of Medicare beneficiaries for each state that are not covered by Medicaid whose family income is at least 120 but less than 135 percent of the federal poverty level. With respect to the final FY 2013 QI allotment (Table1), Column B contains the number of such individuals for the years 2009 through 2011, as obtained from the Census Bureau's Annual Social and Economic Supplement to the 2012 Current Population Survey. With respect to the preliminary FY 2014 QI allotment (Table 2), Column B contains the number of such individuals for the years 2010 through 2012, as obtained from the Census Bureau's Annual Social and Economic Supplement to the Current Population Survey.

Column C—Percentage of Total. Column C provides the percentage of the total number of individuals for each state, that is, the Number of Individuals for the state in Column B divided by the sum total of the Number of Individuals for all States in Column B.

Column D—Initial QI Allotment. Column D contains each state's Initial QI Allotment for FY 2013 (Table 1) or FY 2014 (Chart 2), calculated as the state's Percentage of Total in Column C multiplied by the total amount available nationally for QI allotments for the fiscal year. The total amount available nationally for QI allotments each fiscal year is $765,000,000 for FY 2013 (Table 1) and $785,000,000 for FY 2014 (Table 2).

Columns E through L show the determination of the States' Final QI Allotments for FY 2013 (Table 1) or Preliminary QI Allotments for FY 2014 (Table 2).

Column E—FY 2013 or FY 2014 Estimated QI Expenditures. Column E contains the states' estimates of their total QI expenditures for FY 2013 (Table 1) or FY 2014 (Table 2) based on information obtained from states in the summer of 2013 and as updated.

Column F—Need (Difference). Column F contains the additional amount of QI allotment needed for those states whose estimated expenditures in Column E exceeded their Initial QI allotments in Column D for FY 2013 (Table 1) or for FY 2014 (Table 2) for such states, Column F shows the amount in Column E minus the amount in Column D. For other “Non-Need” states, Column F shows “NA.”

Column G—Percent of Total Need States. For states whose projected QI expenditures in Column E are greater than their Initial QI allotment in Column D for FY 2013 (Table 1) or FY 2014 (Table 2), respectively, Column G shows the percentage of total need, determined as the amount for each Need State in Column F divided by the sum of the amounts for all states in Column F. For Non-Need states, the entry in Column G is “NA.”

Column H—Reduction Pool for Non-Need States. Column H shows the amount of the pool of surplus QI allotments for FY 2013 (Table 1) or FY 2014 (Table 2), respectively, for those states that project QI expenditures for the fiscal year that are less than the Initial QI allotment for the fiscal year (referred to as Non-Need states). For states for which the estimates in Column E of QI expenditures for FY 2013 or FY 2014, respectively, are equal to or less than their Initial QI allotments in Column D for FY 2013 or FY 2014, respectively, Column H shows the amount in Column D minus the amount in Column E. For the states with a need, Column H shows “Need.” The reduction pool of excess QI allotments is equal to the sum of the amounts in Column H.

Column I—Percent of Total Non-Need States. For states whose projected QI expenditures in Column E are less than their Initial QI allotment in Column D for FY 2013 (Table 1) or FY 2014 (Table 2), Column I shows the percentage of the total reduction pool in Column H, determined as the amount for each Non-Need state in Column H divided by the sum of the amounts for all states in Column H. For Need states, the entry in Column I is “Need”.

Column J—Reduction Adjustment for Non-Need States. Column J shows the amount of adjustment needed to reduce the Initial QI allotments in Column D for FY 2013 (Table 1) or FY 2014 (Table 2) for Non-Need States in order to address the total need shown in Column F. The amount in Column J is determined as the percentage in column I for Non-Need States multiplied by the lesser of the total need in Column F (equal to the sum of Needs in Column F) or the total Reduction Pool in Column H (equal to the sum of the Non-Need amounts in Column H). For Need States, the entry in Column J is “Need.”

Column K—Increase Adjustment for Need States. Column K shows the amount of adjustment to increase the Initial QI Allotment in Column D for FY 2013 (Table 1) or FY 2014 (Table 2) for Need States in order to address the total need shown for the fiscal year in Column F. The amount in Column K is determined as the percentage in Column G for Need States multiplied by the lesser of the total need in Column F (equal to the sum of Needs in Column F) or the total Reduction Pool in Column H (equal to the sum of the Non-Need amounts in Column H). For Non-Need States, the entry in Column K is “NA.”

Column L—Final FY 2013 QI Allotment (Chart 1) or Preliminary FY 2014 QI Allotment (Table 2). Column L contains the Final QI Allotment for each state for FY 2013 (Table 1) or the Preliminary QI Allotment for FY 2014 (Table 2). For states that need additional QI allotment amounts for the fiscal year based on Estimated QI Expenditures in Column E as compared to their Initial QI allotments in Column D for the fiscal year (states with a projected need amount are shown in Column F), Column L is equal to the Initial QI allotment in Column D for FY 2013 (Table 1) or FY 2014 (Table 2) plus the amount determined in Column K for Need States. For Non-Need States (states with a projected surplus in Column H), Column L is equal to the QI Allotment in Column D reduced by the Reduction Adjustment amount in Column J.

III. Collection of Information Requirements

This notice does not impose any information collection or recordkeeping requirements. Consequently, it does not need Office of Management and Budget review under the authority of the Paperwork Reduction Act of 1995 (44 U.S.C. 3501 et seq.).

Dated: April 17, 2015.
Andrew M. Slavitt,
Acting Administrator, Centers for Medicare & Medicaid Services.
Dated: May 21, 2015.
Sylvia M. Burwell,
Secretary, Department of Health and Human Services.

[FR Doc. 2015-13043 Filed 5-28-15; 11:15 am]

BILLING CODE 4120-01-P